ENVIRONMENTAL PROTECTION AGENCY

[ER-FRL-9005-4]

Environmental Impacts Statements; Notice of Availability

Responsible Agency: Office of Federal Activities, General Information (202) 564-7146 or http://www.epa.gov/compliance/nepa/.

Weekly receipt of Environmental Impact Statements

Filed 09/24/2012 through 09/28/2012

Pursuant to 40 CFR 1506.9

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120309, Draft EIS, USACE, CA, SunCreek Specific Plan Project, Development of Plan Area for Mixed Uses, Sacramento County, CA, Comment Period Ends: 11/19/2012, Contact: Lisa Gibson 916-557-5288.

EIS No. 20120310, Final EIS, BLM, UT, Sigurd to Red Butte No. 2 345kV Transmission Project, Issuance of Right-of-Way Grant by BLM and Special-Use-Permit by AFS, Sevier, Millard, Iron, Beaver, and Washington Counties, UT, Review Period Ends: 11/05/2012, Contact: Tamara Gertsch 307-775-6115.

EIS No. 20120311, Draft Supplement, FHWA, WA, I-90 Snoqualmie Pass East, Avalanche Structures, Kittitas County, WA, Comment Period Ends: 11/19/2012, Contact: Liana Liu 360-753-9553.

EIS No. 20120312, Final EIS, USFS, NV, Geothermal Leasing on the Humboldt-Toiyabe National Forest, To Facilitate the Development and Production of Geothermal Energy, Ely, Austin, Tonopah and Bridgeport Ranger Districts, NV, Review Period Ends: 11/05/2012, Contact: Keith Whaley 760-932-7070.

EIS No. 20120313, Final EIS, FHWA, WA, Cattle Point Road Realignment Project, To Maintain Vehicular, Bicycle, and Pedestrian Road Access, San Juan Island National Historical Park and Cattle Point Natural Resources Conservation Area, San Juan County, WA, Review Period Ends: 11/05/2012, Contact: Jerald Weaver 360-378-2223.

EIS No. 20120314, Draft EIS, WAPA, WY, Hermosa West Wind Energy Project, To Approve or Deny an Interconnection Request, Albany County, WY, Comment Period Ends: 11/19/2012, Contact: Mark Wieringa 720-962-7448.

EIS No. 20120315, Draft EIS, TVA, TN, Dam Safety Modifications at Cherokee, Fort Loudoun, Tellico, and Watts Bar Dams, Grainger, Jefferson, Loudoun, Rhea, and Meigs Counties, TN, Comment Period Ends: 11/19/2012, Contact: Charles R. Nicholson 865-632-3582.

EIS No. 20120316, Draft EIS, NIH, MD, National Institutes of Health Animal Center Draft Master Plan, Montgomery County, MD, Comment Period Ends: 12/04/2012, Contact: Valerie Nottingham 301-496-7775.

Amended Notices

EIS No. 20120238, Draft EIS, GSA, NY, Public Sale of Plum Island Animal Disease Center, Long Island Sound, Suffolk County, NY, Comment Period Ends: 10/26/2012, Contact: John Dugan 617-565-5700.

Revision to FR Notice Published 07/20/2012; Extending Comment Period from 09/20/2012 to 10/26/2012.

Dated: October 2, 2012.
Cliff Rader,
Director, NEPA Compliance Division, Office of Federal Activities.

[FR Doc. 2012-24630 Filed 10-4-12; 8:45 am]

BILLING CODE 6560-50-P